DEPARTMENT OF LABOR

Employment and Training Administration

[TA-W-59,426]

Continental Tire North America Tire Technology Charlotte, NC; Notice of Termination of Investigation

Pursuant to Section 221 of the Trade Act of 1974, as amended, an investigation was initiated on May 19, 2006 in response to a worker petition filed by a company official on behalf of workers of Continental Tire North America, Tire Technology, Charlotte, North Carolina.

The petitioning group of workers is covered by an active certification (TA-W-57,487), which expires on August 9, 2007. Consequently, further investigation in this case would serve no purpose, and the investigation has been terminated.

Signed at Washington, DC this 18th day of July 2006.
Linda G. Poole,
Certifying Officer, Division of Trade Adjustment Assistance.

[FR Doc. E6-13182 Filed 8-10-06; 8:45 am]

BILLING CODE 4510-30-P